NUCLEAR REGULATORY COMMISSION

[NRC-2013-0001]

Sunshine Act Meeting Notice

AGENCY HOLDING THE MEETINGS: Nuclear Regulatory Commission.

DATE: Weeks of February 18, 25, March 4, 11, 18, 25, 2013.

PLACE: Commissioners' Conference Room, 11555 Rockville Pike, Rockville, Maryland.

STATUS: Public and Closed.

Week of February 18, 2013

Wednesday, February 20, 2013

12:55 p.m. Affirmation Session (Public Meeting) (Tentative)

NextEra Energy Seabrook, LLC (Seabrook Station), New England Coalition and Friends of the Coast's Notice, and Supporting Brief, of Appeal of ASLBP No. 10-906-02-LR-BD01 to NextEra Energy Seabrook, LLC (Nov. 19, 2012) (Tentative).

This meeting will be webcast live at the Web address— www.nrc.gov.

1:00 p.m. Briefing on Uranium Recovery (Public Meeting) (Contact: Bill von Till, 301-415-0598).

This meeting will be webcast live at the Web address— www.nrc.gov.

Thursday, February 21, 2013

9:30 a.m. Briefing on the Threat Environment Assessment (Closed—Ex. 1).

Week of February 25, 2013—Tentative

There are no meetings scheduled for the week of February 25, 2013.

Week of March 4, 2013—Tentative

There are no meetings scheduled for the week of March 4, 2013.

Week of March 11, 2013—Tentative

There are no meetings scheduled for the week of March 11, 2013.

Week of March 18, 2013—Tentative

There are no meetings scheduled for the week of March 18, 2013.

Week of March 25, 2013—Tentative

There are no meetings scheduled for the week of March 25, 2013.

* * * * *

* The schedule for Commission meetings is subject to change on short notice. To verify the status of meetings, call (recording)—301-415-1292. Contact person for more information: Rochelle Bavol, 301-415-1651.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0727, or by email at kimberly.meyer-chambers@nrc.gov. Determinations on requests for reasonable accommodation will be made on a case-by-case basis.

* * * * *

This notice is distributed electronically to subscribers. If you no longer wish to receive it, or would like to be added to the distribution, please contact the Office of the Secretary, Washington, DC 20555 (301-415-1969), or send an email to darlene.wright@nrc.gov.

Dated: February 13, 2013.
Rochelle C. Bavol,
Policy Coordinator, Office of the Secretary.

[FR Doc. 2013-03845 Filed 2-14-13; 4:15 pm]

BILLING CODE 7590-01-P